LEGAL SERVICES CORPORATION

Sunshine Act Meeting of the Board of Directors Committee on Provision for the Delivery of Legal Services

Time and Date: The Committee on Provision for the Delivery of Legal Services of the Legal Services Corporation Board of Directors will meet on September 14, 2003. The meeting will begin at 10:30 a.m. and continue until the Committee concludes its agenda.

Location: The Melrose Hotel, 2430 Pennsylvania Avenue, NW., Washington, DC 20037

Status of Meeting: Open.

Matters to be Considered:

1. Approval of agenda.

2. Approval of minutes of the Committee's meeting of June 27, 2003.

3. Short Presentations on the Critical Issues and Challenges Facing the National Legal Services Delivery System and the Clients Served by Legal Services Programs:

• Alan Houseman, Center for Law & Social Policy (CLASP); Don Saunders and Teresa Cosby, National Legal Aid & Defender Association (NLADA).

• Lisa Oshiro, Native American Indian Legal Services (NAILS).

• Wayne Moore, American Association of Retired Persons (AARP).

• Susan Patnode, Rural Network.

• Sarah Singleton, ABA Standing Committee on Legal Aid & Indigent Defendants (SCLAID).

• Lillian Johnson and Don Isaac, African-American Project Directors Association (AAPDA).

• Faith Rivers, National Association of IOLTA Providers (NAIP).

• Luis Jaramillo, Farmworker Project Group.

4. Consider and act on other business.

5. Public comment.

6. Consider and act on adjournment of meeting.

FOR FURTHER INFORMATION CONTACT: Victor M. Fortuno, Vice President for Legal Affairs, General Counsel & Corporate Secretary, at (202) 295-1500.

Special Needs: Upon request, meeting notices will be made available in alternate formats to accommodate visual and hearing impairments. Individuals who have a disability and need an accommodation to attend the meeting may notify Elizabeth S. Cushing, at (202) 295-1500.

Dated: September 5, 2003.
Victor M. Fortuno,
Vice President for Legal Affairs, General Counsel & Corporate Secretary.

[FR Doc. 03-23122 Filed 9-5-03; 4:13 pm]

BILLING CODE 7050-01-P